MARINE MAMMAL COMMISSION

Sunshine Act Notice

TIME AND DATE: The Marine Mammal Commission and its Committee of Scientific Advisors on Marine Mammals will meet on Tuesday, 6 May 2013, from 9:00 a.m. to 5:30 p.m.; Wednesday, 7 May 2013, from 9:00 a.m. to 5:30 p.m.; Thursday, 8 May 2013, from 9:30 a.m. to 5:00 p.m. The Commission and the Committee also will meet in executive session on Monday, 5 May 2013, from 2:00 to 6:00 p.m.

PLACE: Tuesday and Wednesday, 6 and 7 May: Fellowship Hall, Mt. Vernon Place United Methodist Church, 900 Massachusetts Ave. NW., Washington, DC 20001. Thursday, 8 May: Capitol Hill Visitor's Center, located underground on the east side of the Capitol, at the East Front plaza of the U.S. Capitol, First Street and East Capitol Street NE., Washington, DC, 20001.

STATUS: The executive session will be closed to the public in accordance with the provisions of the Government in the Sunshine Act (5 U.S.C. 552b) and applicable regulations. The session will be limited to discussions of internal agency practices, personnel, and the budget of the Commission. All other portions of the meeting will be open to the public. Public participation will be allowed as time permits and as determined to be desirable by the Chairman.

MATTERS TO BE CONSIDERED: The Commission and Committee will meet in public session to discuss a broad range of marine mammal science and conservation policy issues, with a particular focus on partnerships and prioritization in order to address growing challenges in ensuring healthy marine mammal populations and the ecosystems in which they live. An opening session will feature the leaders of the major federal agencies engaged in marine mammal science and conservation. Five themed sessions will reflect the Objectives in the Commission's Strategic Plan for 2015-19: The Changing Arctic; Offshore Energy Development; Marine Mammal Health and Stranding; Impacts on Marine Mammals from Fishing; and Recovery of Marine Mammal Stocks: Next Steps. The third day of the meeting, which will be held on Capitol Hill, will feature introductory remarks from members of Congress, discussion of the outcome of the five themed sessions, a series of short presentations on the latest technological advances in marine mammal science, and a public comment session.

CONTACT PERSON FOR MORE INFORMATION: Michael L. Gosliner, General Counsel, Marine Mammal Commission, 4340 East-West Highway, Room 700, Bethesda, MD 20814; (301) 504-0087; email: mgosliner@mmc.gov.

Dated: 9 April 2014.
Rebecca J. Lent,
Executive Director.

[FR Doc. 2014-08358 Filed 4-9-14; 4:15 pm]

BILLING CODE 6820-31-P